DEPARTMENT OF THE INTERIOR

Bureau of Safety and Environmental Enforcement

[Docket ID BSEE-2013-0001; OMB Control Number 1014-0010; 134E1700D2 EEEE500000 ET1SF0000.DAQ000]

Information Collection Activities: Decommissioning Activities, Proposed Collection; Comment Request

ACTION: 60-day notice.

SUMMARY: To comply with the Paperwork Reduction Act of 1995 (PRA), Bureau of Safety and Environmental Enforcement (BSEE) is inviting comments on a collection of information that we will submit to the Office of Management and Budget (OMB) for review and approval. The information collection request (ICR) concerns a renewal to the paperwork requirements in the regulations under Subpart Q, Decommissioning Activities.

DATES: You must submit comments by July 22, 2013.

ADDRESSES: You may submit comments by either of the following methods listed below.

• Electronically: Go to http://www.regulations.gov. In the entry titled Enter Keyword or ID, enter BSEE-2013-0001 then click search. Follow the instructions to submit public comments and view all related materials. We will post all comments.

• Email nicole.mason@bsee.gov. Mail or hand-carry comments to the Department of the Interior; BSEE; Regulations and Standards Branch; Attention: Nicole Mason; 381 Elden Street, HE3313; Herndon, Virginia 20170-4817. Please reference ICR 1014-0010 in your comment and include your name and return address.

FOR FURTHER INFORMATION CONTACT: Nicole Mason, Regulations and Standards Branch at (703) 787-1605 to request additional information about this ICR.

SUPPLEMENTARY INFORMATION:

Title: 30 CFR Part 250, Subpart Q, Decommissioning Activities.

OMB Control Number: 1014-0010.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS.

In addition to the general authority of OCSLA, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 109(c)(2) and (d)(1), 30 U.S.C. 1719(c)(2) and (d)(1), impose substantial civil penalties for failure to permit lawful inspections and for knowing or willful preparation or submission of false, inaccurate, or misleading reports, records, or other information. The Secretary has delegated some of the authority under FOGRMA to BSEE.

The Independent Offices Appropriations Act (31 U.S.C. 9701), the Omnibus Appropriations Bill (Pub. L. 104-133, 110 Stat. 1321, April 26, 1996), and OMB Circular A-25, authorize Federal agencies to recover the full cost of services that confer special benefits. Applications for permits to drill and modification approvals are subject to cost recovery, and BSEE regulations specify service fees for these requests.

This authority and responsibility are among those delegated BSEE. The regulations at 30 CFR 250, subpart Q, concern decommissioning of platforms, wells, and pipelines, as well as site clearance and platform removal and are the subject of this collection. This request also covers the related Notices to Lessees and Operators (NTLs) that BSEE issues to clarify, supplement, or provide additional guidance on some aspects of our regulations.

Regulations at 30 CFR 250, Subpart Q, implement these statutory requirements. We use the information for the following reasons:

• To determine the necessity for allowing a well to be temporarily abandoned, the lessee/operator must demonstrate that there is a reason for not permanently abandoning the well, and the temporary abandonment will not constitute a significant threat to fishing, navigation, or other uses of the seabed. We use the information and documentation to verify that the lessee is diligently pursuing the final disposition of the well, and the lessee has performed the temporary plugging of the wellbore.

• The information submitted in initial decommissioning plans in the Alaska and Pacific OCS Regions will permit BSEE to become involved on the ground floor planning of platform removals anticipated to occur in these OCS regions.

• Site clearance and platform or pipeline removal information ensures that all objects (wellheads, platforms, etc.) installed on the OCS are properly removed using procedures that will protect marine life and the environment during removal operations, and the site cleared so as not to conflict with or harm other uses of the OCS.

• Decommissioning a pipeline in place is needed to ensure that it will not constitute a hazard to navigation and commercial fishing operations, unduly interfere with other uses of the OCS, or have adverse environmental effects.

• The information is necessary to verify that decommissioning activities comply with approved applications and procedures and are satisfactorily completed.

We will protect information from respondents considered proprietary under the Freedom of Information Act (5 U.S.C. 552) and its implementing regulations (43 CFR part 2) and under regulations at 30 CFR 250.197, Data and information to be made available to the public or for limited inspection. No items of a sensitive nature are collected. Responses are mandatory.

Frequency: On occasion.

Description of Respondents: Potential respondents comprise Federal oil, gas, or sulphur lessees and/or operators.

Estimated Reporting and Recordkeeping Hour Burden: The currently approved annual reporting burden for this collection is 19,613 hours. The following chart details the individual components and respective hour burden estimates of this ICR. In calculating the burdens, we assumed that respondents perform certain requirements in the normal course of their activities. We consider these to be usual and customary and took that into account in estimating the burden.

Citation 30 CFR 250 Subpart Q | Reporting requirement | Hour burden
General
1700 thru 1754 | General departure and alternative compliance requests not specifically covered elsewhere in subpart Q regulations | 3.
1703; 1704 | Request approval for decommissioning | Burden included below.
1704(g); 1707(d); 1712; 1715; 1716; 1717; 1721(a), (d), (f), (g); 1722(a), (b), (d); 1723(b); 1743(a) | Submit form BSEE-0124 to plug wells; provide subsequent report; request alternate depth departure; request procedure to protect obstructions above seafloor; report within 30 days, results of trawling; certify area cleared of obstructions; remove casing stub or mud line suspension equipment and subsea protective covering; other departures; and all supporting or additional information required | Burden covered under 1014-0018.
1705 | Submit a description of your Blowout Preventer (BOP) and its components; schematic drawings; independent third party verification and all supporting information (evidence showing appropriate licenses, has expertise/experience necessary to perform required verifications, etc.) with your Application for Permit to Modify (APM) | 15.
1705(e)(2)(ii) | Allow BSEE access to witness testing, inspections, and information verification. Notify District Manager at least 72 hours prior to shearing ram tests | 0.25.
1706(a) | Request approval of well abandonment operations; procedures indicating how the annular preventer will be utilized and how pressure limitations will be applied during each mode of pressure control, with your APM | 0.25.
1706(f)(4) | Request approval of the District Manager to conduct operations without downhole check values; describe procedures/equipment in APM | 1.
1707(a)(2) | Request approval from District Manager to test all BOP system components to rated working pressure; annular BOP less than 70 percent rated working pressure | 0.25.
1707(b)(2) | State reason for postponing test in operations logs | 0.25.
1707(b)(2) | Request approval from District Manager for alternate test frequencies if condition/BOP warrant | 0.25.
1707(f) | Request alternative method to record test pressures | 0.25.
1707(f) | Record test pressures during BOP and coiled tubing on a pressure chart or w/digital recorder; certify charts are correct | 1.
1707(g) | Record or reference in operations log all pertinent information listed in this requirement; make all documents pertaining to BOP tests, actuations and inspections available for BSEE review at facility for duration of well abandonment activity; retain all records for 2 years at a location conveniently available for the District Manager | 0.5.
1707(h)(1) | Submit test procedures with your APM for District Manager approval | 1.
1707(h)(1)(ii) | Document all ROV intervention test results; make available to BSEE upon request | 0.5.
1707(h)(2)(ii) | Document all autoshear and deadman function test results; make available to BSEE upon request | 0.25.
1708(a), (b) | Document BOP inspection and maintenance procedures used; record results of BOP inspections and maintenance actions; maintain records for 2 years or longer if directed by BSEE; make available to BSEE upon request | 1.
1708(a) | Request alternative method to inspect marine risers | 0.25.
1709 | Request approval from the District Manager to displace kill-weight fluids in an unbalanced state; submit detailed written procedures with your APM | 2.
Permanently Plugging Wells
1711 | Required data if permanently plugging a well. Requirement not considered Information Collection under 5 CFR 1320.3(h)(9) | 0.
1712(f), (g); 1721(h) | Submit with your APM, archaeological and sensitive biological features; professional engineer certification | Burden covered under 1014-0018.
1712(g); 1721(h) | Submit evidence from the Registered Professional Engineer/firm of the well abandonment design and procedures; plugs in the annuli meet requirements of § 250.1715; 2 independent barriers etc; has the expertise and experience necessary to perform the verification(s), submit with the APM | 1.
1713 | Notify BSEE 48 hours before beginning operations to permanently plug a well | 0.5.
Temporary Abandoned Wells
1721(e); 1722(e), (h)(1); 1741(c) | Identify and report subsea wellheads, casing stubs, or other obstructions; mark wells protected by a dome; mark location to be cleared as navigation hazard | U.S. Coast Guard requirements.
1722(c), (g)(2) | Notify BSEE within 5 days if trawl does not pass over protective device or causes damages to it; or if inspection reveals casing stub or mud line suspension is no longer protected | 1.
1722(f), (g)(3) | Submit annual report on plans for re-entry to complete or permanently abandon the well and inspection report | 2.5.
1722(h) | Request waiver of trawling test | 2.
Removing Platforms and Other Facilities
1726; 1704(a) | Submit initial decommissioning application in the Pacific and Alaska OCS Regions. | 20.
1725; 1727; 1728; 1730; 1704(b) | Submit final application and appropriate data to remove platform or other subsea facility structures (including alternate depth departure) or approval to maintain, to conduct other operations, or to convert to artificial reef | 22.
|  | $4,342 fee.
1725(e) | Notify BSEE 48 hours before beginning removal of platform and other facilities | 0.5.
1729; 1704(c) | Submit post platform or other facility removal report; supporting documentation; signed statements, etc | 9.
1731(c) | Request deferral of facility removal subject to RUE issued under 30 CFR 556 | 1.
Site Clearance for Wells, Platforms, and Other Facilities
1740; 1741(g) | Request approval to use alternative methods of well site, platform, or other facility clearance; contact pipeline owner/operator before trawling to determine its condition | 15.
1743(b); 1704(f) | Verify permanently plugged well, platform, or other facility removal site cleared of obstructions; supporting documentation; and submit certification letter | 5.
Pipeline Decommissioning
1750; 1751; 1752; 1754; 1704(d) | Submit application to decommission pipeline in place or remove pipeline (Lease Term (L/T) or Right-of-Way (ROW)) | 10.
|  | $1,059 L/T decommission fee.
|  | $2,012 ROW decommission fee.
1753; 1704(e) | Submit post pipeline decommissioning report | 3.

Estimated Reporting and Recordkeeping Non-Hour Cost Burden: We have identified three non-hour paperwork cost burdens for this collection. Respondents pay cost recovery fees when removing a platform or other facility under § 250.1727 for $4,342, or for decommissioning a pipeline under § 250.1751(a)—L/T for $1,059 or a ROW for $2,012. The fees are required to recover the Federal Government's processing costs, and we have not identified any others. We estimate a total reporting non-hour cost burden of $1,677,782 for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Cheryl Blundon (703) 787-1607.

Dated: May 14, 2013.
Robert W. Middleton,
Deputy Chief, Office of Offshore Regulatory Programs.

[FR Doc. 2013-12050 Filed 5-20-13; 8:45 am]

BILLING CODE 4310&ndashVH-P